FEDERAL COMMUNICATIONS COMMISSION

47 CFR Parts 0, 2, and 23

[IB Docket No. 05-216; FCC 10-7]

Elimination of the Commission's Rules Governing International Fixed Public Radiocommunication Services

AGENCY: Federal Communications Commission.

ACTION: Final rule.

SUMMARY: In this document, the Federal Communications Commission (FCC) adopts the proposal in the Notice of Proposed Rulemaking in this proceeding, to eliminate that portion of the Commission's rules governing International Fixed Public Radiocommunication Services (IFPRS). The elimination of these rules is to facilitate coordination of facilities and services in the C-band (3700-4200 MHz and 5926-6425 MHz).

DATES: Effective March 25, 2010.

FOR FURTHER INFORMATION CONTACT: Steven Spaeth (202) 418-1539, International Bureau, Federal Communications Commission, Washington, DC 20554.

SUPPLEMENTARY INFORMATION: This is a summary of the Commission's Report and Order in IB Docket 05-216, adopted January 6, 2010, and released January 14, 2010. The full text of the Report and Order is available for public inspection and copying during regular business hours at the FCC Reference Information Center, Portals II, 445 12th Street, SW., Room CY-A257, Washington, DC 20054. This document may also be purchased from the Commission's duplicating contractor, Best Copy and Printing, Inc., Portals II, 445 12th Street, SW., Room CY-B402, Washington, DC 20554, telephone 202-488-5300, facsimile 202-488-5563, or via e-mail FCC@BCPIWEB.com. It is also available on the Commission's Web site at http://www.fcc.gov.

Paperwork Reduction Act Analysis: The actions taken in the Report and Order have been analyzed with respect to the Paperwork Reduction Act of 1995 (PRA), Public Law 104-13 (44 U.S.C. 3501-3520), and found to impose no new or modified requirements.

Regulatory Flexibility Analysis Certification:

The Regulatory Flexibility Act of 1980, as amended, 5 USC 601 et seq., (RFA) requires that a regulatory flexibility analysis be prepared for rulemaking proceedings, unless the agency certifies that “the rule will not have a significant economic impact on a substantial number of small entities.” The RFA generally defines “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the Small Business Administration (SBA).

In the Report and Order, the Commission decides to eliminate the part 23 rules applicable to International Fixed Public Radio Service (IFPRS) licensees, because there are no IFPRS licensees in operation. Therefore, we certify that the actions in this Report and Order will not have a significant economic impact on a substantial number of small entities. The Commission will send a copy of the Report and Order, including a copy of this certification, in a report to Congress and the Government Accountability Office pursuant to the Congressional Review Act, see 5 USC 801(a)(1)(A). In addition, the Report and Order and this certification will be sent to the Chief Counsel for Advocacy of the Small Business Administration, and will be published in the Federal Register. See 5 USC 605(b).

Summary of Report and Order

In the Report and Order, the Commission observed that there are no licensees currently offering IFPRS, and there is no basis in the record for assuming that anyone will apply for a license to operate facilities to provide this service in the future. Accordingly, the Commission found that there is no need for part 23, and removed it from the Commission's rules. In addition, the Commission found that issues related to the regulation of IFPRS and the transition from part 23 to part 101 raised in the Notice of Proposed Rulemaking in this proceeding, 70 FR 56620 (Sept. 20, 2005), are moot. Finally, the Commission eliminated the allocations for IFPRS in the Table of Frequency Allocations, 47 CFR 2.106, in order to simplify the planning and coordination of facilities in services that have a co-primary allocation in the C-band.

Ordering Clauses

Accordingly, it is ordered, pursuant to sections 4(i), 7(a), 11, 303(c), 303(f), 303(g), and 303(r) of the Communications Act of 1934, as amended, 47 U.S.C. 154(i), 157(a), 161, 303(c), 303(f), 303(g), 303(r), that this Report and Order in IB Docket No. 05-216 is hereby adopted.

It is further ordered that parts 0, 2, and 23 of the Commission's rules are amended as set forth in the Appendix to this Order. An announcement of the effective date of these rule revisions will be published in the Federal Register.

It is further ordered that the Consumer and Governmental Affairs Bureau, Reference Information Center, shall send a copy of this Order, including the Final Regulatory Flexibility Certification, to the Chief Counsel for Advocacy of the Small Business Administration.

List of Subjects

47 CFR Part 0

Organization and functions (Government agencies).

47 CFR Part 2

Telecommunications.

47 CFR Part 23

Communications common carriers, Equal employment opportunity, Radio, Reporting and recordkeeping requirements, Telegraph, Telephone.

Federal Communications Commission.
Marlene H. Dortch,
Secretary.

For the reasons discussed in the preamble, and under the authority of 47 U.S.C. 154(i), 303(r), the Federal Communications Commission amends 47 CFR chapter I as follows:

PART 0—COMMISSION ORGANIZATION

1. The authority citation for part 0 continues to read as follows:

Authority: Sec. 5, 48 Stat. 1068, as amended; 47 U.S.C. 155.

2. Section 0.261 is amended by revising paragraph (a)(3) to read as follows:

§ 0.261 Authority delegated.

(a) * * *

(3) To act upon applications for international telecommunications and services pursuant to relevant portions of part 63 of this chapter, and coordinate with the Wireline Competition Bureau as appropriate;

* * * * *

PART 2—FREQUENCY ALLOCATIONS AND RADIO TREATY MATTERS; GENERAL RULES AND REGULATIONS

3. The authority citation for part 2 continues to read as follows:

Authority: 47 U.S.C. 154, 302a, 303, and 336, unless otherwise noted.

4. Section 2.106, the Table of Frequency Allocations, is amended as follows:

a. Pages 38 and 41 are revised.

b. In the list of Non-Federal Government (NG) Footnotes, footnote NG41 is removed.

§ 2.106 Table of Frequency Allocations.

* * * * *

BILLING CODE 6712-01-P

* * * * *

PART 23—[REMOVED]

5. In Title 47, remove part 23.

[FR Doc. 2010-3262 Filed 2-22-10; 8:45 am]

BILLING CODE 6712-01-C